DEPARTMENT OF TRANSPORTATION

Federal Railroad Administration

[Docket No. FRA 2001-9972; Formerly FRA Docket No. 87-2; Notice No. 13]

RIN 2130-AB20

Automatic Train Control (ATC) and Advanced Civil Speed Enforcement System (ACSES); Northeast Corridor (NEC) Railroads

AGENCY: Federal Railroad Administration (FRA), Department of Transportation (DOT).

ACTION: Amendment to Order of Particular Applicability Requiring ACSES Between New Haven, Connecticut and Boston, Massachusetts—Extension of Massachusetts Bay Transit Authority (MBTA) Temporary Operating Protocols.

SUMMARY: FRA amends its Order of Particular Applicability requiring all trains operating on the Northeast Corridor (NEC) between New Haven, Connecticut and Boston, Massachusetts (NEC—North End) to be equipped to respond to the new Advanced Civil Speed Enforcement System (ACSES). The only amendment to this document is the second extension of a previously granted exception that allows MBTA to follow temporary operating protocols whenever it cannot dispatch a train equipped with ACSES. This exception now runs until April 5, 2002.

DATES: The amendments to the Order are effective February 12, 2002.

FOR FURTHER INFORMATION CONTACT: W. E. Goodman, Staff Director, Signal and Train Control Division, Office of Safety, Mail Stop 25, FRA, 1120 Vermont Avenue, NW., Washington, DC 20590 ((202) 493-6325); Paul Weber, Railroad Safety Specialist, Signal and Train Control Division, Office of Safety, Mail Stop 25, FRA, 1120 Vermont Avenue, NW., Washington, DC 20590 ((202) 493-6258); or Patricia V. Sun, Office of Chief Counsel, Mail Stop 10, 1120 Vermont Avenue, NW., Washington, DC 20590 ((202) 493-6038).

For instructions on how to use this system, visit the Docket Management System Web Site (www.dms.dot.gov) and click on the “Help” menu. This docket is also available for inspection or copying at room PL-401 on the plaza level of the Nassif Building at the U.S. Department of Transportation, 400 7th Street, SW., Washington, DC 20590-0001, during regular business hours.

SUPPLEMENTARY INFORMATION: The Order of Particular Applicability (Order), as published on July 22, 1998, set performance standards for cab signal/automatic train control and ACSES systems, increased certain maximum authorized train speeds, and contained safety requirements supporting improved rail service on the NEC. 63 FR 39343. Among other requirements, the Order required all trains operating on track controlled by the National Railroad Passenger Corporation (Amtrak) on the NEC—North End to be controlled by locomotives equipped to respond to ACSES by October 1, 1999. In five subsequent notices, FRA amended the Order to reset the implementation schedule and make technical changes. 64 FR 54410, October 6, 1999; 65 FR 62795, October 19, 2000; 66 FR 1718, January 9, 2001; 66 FR 34512, June 28, 2001; and 66 FR 57771, November 16, 2001.

Background

FRA is making the amendment to this Order effective upon publication instead of 30 days after the publication date in order to realize the significant safety and transportation benefits afforded by the ACSES system at the earliest possible time. All affected parties have been notified.

FRA is not reopening the comment period since the sole amendment to this Order is to extend temporary operating protocols for MBTA that had expired on February 1, 2002. The amendment, which allows these protocols to remain effective until April 5, 2002, will be effective for slightly more than 60 days and is necessary to avoid disruption of rail service. Under these circumstances, delaying the effective date of the amendment to allow for notice and comment would be impracticable, unnecessary, and contrary to the public interest. FRA will continue to monitor the progress of MBTA towards equipping, maintaining and scheduling sufficient units to run all trains with operative ACSES.

Final Extension of MBTA Temporary Operating Protocols

In a December 13, 2001 letter, MBTA requested a three-month extension of the temporary operating protocols because of an anticipated inability to equip sufficient locomotives with ACSES by February 1, 2002. At this stage in its development, new ACSES software contains relatively minor modifications from the software installed on already equipped units. FRA therefore expects the parties to this Order to resolve any remaining issues quickly. With this expectation, FRA grants MBTA a final extension of the temporary operating protocols for slightly more than 60 days. During this interval, MBTA should devote attention to fleet management to ensure that sufficient units are equipped with ACSES by the time this latest and last extension expires on April 5, 2002. Furthermore, MBTA should do its upmost to maximize the use of ACSES equipped units on ACSES territory, ensuring that ACSES equipped locomotives and cab cars are utilized to their full potential in ACSES service. Other than the extension granted above, the temporary operating protocols specified in Notice No. 11 (66 FR 34512, June 28, 2001) remain in effect without change.

Implementation of Data Radio Systems

Finally, FRA notes that, with the inclusion of this amendment, it has granted six requests for relief from the Order's original timetable. The Order requires data radio systems to be installed within one year of ACSES installation. In an August 28, 2001 letter, Amtrak requested that FRA suspend the Order's requirement to enforce temporary speed restrictions with temporary transponders until Amtrak fully implements data radio enforcement. FRA's October 31, 2001 response asked Amtrak to justify more fully this request to suspend positive protection for roadway workers. While Amtrak has yet to respond to the FRA letter, this latest request for relief highlights that Amtrak is in arrears in its commitment to install data radios. FRA is aware of the financial issues facing Amtrak and other parties to this Order, but the parties must commit fully to the extended deadlines for completion of ACSES design and implementation.

Accordingly, for the reasons stated in the preamble, the Final Order of Particular Applicability published at 63 FR 39343, July 22, 1998 (Order) is amended as follows:

1. The authority for the Order continues to read as follows: 49 U.S.C. 20103, 20107, 20501-20505 (1994); and 49 CFR 1.49(f), (g), and (m).

2. Paragraph 11 is amended as follows:

11. Massachusetts Bay Transit Authority (MBTA) Temporary Operating Protocols.

(a) Effective upon February 12, 2002 until April 5, 2002, Amtrak must adhere to the following procedures if it becomes necessary to dispatch an MBTA train from its initial terminal with inoperative onboard ACSES equipment:

* * * * *

Issued in Washington, DC, on January 31, 2002.
Allan Rutter,
Federal Railroad Administrator.

[FR Doc. 02-3390 Filed 2-11-02; 8:45 am]

BILLING CODE 4910-06-P